DEPARTMENT OF HEALTH AND HUMAN SERVICES

National Institutes of Health

Proposed Information Collection; 60-day Comment Request: The National Diabetes Education Program (NDEP) Comprehensive Evaluation Plan

SUMMARY: In compliance with the requirement of Section 3506(c)(2)(A) of the Paperwork Reduction Act of 1995, for opportunity for public comment on proposed data collections projects, the National Institute of Diabetes and Digestive and Kidney Diseases (NIDDK), the National Institutes of Health (NIH) will publish periodic summaries of proposed projects to be submitted to the Office of Management and Budget (OMB) for review and approval.

Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) The quality, utility, and clarity of the information to be collected; and (4) The approaches used to minimize the burden of the collection of information on those who are to respond, including the use of appropriate automated, electronic, mechanical, or other technological collection techniques or other forms of information technology.

To Submit Comments and For Further Information: To obtain a copy of the data collection plans and instruments, submit comments in writing, or request more information on the proposed project, contact: Joanne M. Gallivan, MS, RD, Director, National Diabetes Education Program, OCPL, NIDDK, 31 Center Drive, Room 9A06, Bethesda, MD, 20892; or call non-toll-free number 301-496-6110; or Email your request, including your address, to: joanne_gallivan@nih.gov. Formal requests for additional plans and instruments must be requested in writing.

DATES: Comment Due Date: Comments regarding this information collection are best assured of having their full effect if received within 60 days of the date of this publication.

Proposed Collection: The National Diabetes Education Program (NDEP) Comprehensive Evaluation Plan, 0925-0552, Expiration Date 10/31/2015, REVISION, National Institute of Diabetes and Digestive and Kidney Disease (NIDDK), National Institutes of Health (NIH).

Need and Use of Information Collection: The National Diabetes Education Program (NDEP) is a partnership of the National Institutes of Health (NIH) and the Centers for Disease Control and Prevention (CDC) and more than 200 public and private organizations. The long-term goal of the NDEP is to reduce the burden of diabetes and pre-diabetes in the United States, and its territories, by facilitating the adoption of proven strategies to prevent or delay the onset of diabetes and its complications. The NDEP objectives are to: (1) Increase awareness and knowledge of the seriousness of diabetes, its risk factors, and effective strategies for preventing complications associated with diabetes and preventing type 2 diabetes; (2) Increase the number of people who live well with diabetes and effectively manage their disease to prevent or delay complications and improve quality of life; (3) Decrease the number of Americans with undiagnosed diabetes; (4) Among people at risk for type 2 diabetes, increase the number who make and sustain effective lifestyle changes to prevent diabetes; (5) Facilitate efforts to improve diabetes-related health care and education, as well as systems for delivering care; (6) Reduce health disparities in populations disproportionately burdened by diabetes; and (7) Facilitate the incorporation of evidenced-based research findings into health care practices.

Multiple strategies have been devised to address the NDEP objectives. These have been described in the NDEP Strategic Plan and include: (1) Identify, and share with current and new partner organizations representing health care providers and community-based organizations representing people with diabetes and at risk for diabetes, model programs and resources that help them support their constituents and members to develop and sustain a healthy lifestyle to prevent type 2 diabetes or effectively manage diabetes and improve their outcomes; (2) Identify, and share with current and new partner organizations, tools, resources and programs that help improve effectiveness in diabetes management and prevention interventions through clinical care engagements; (3) Identify, and share with current and new partner organizations, tools and resources for community organizations and community leaders seeking to improve health outcomes for people with diabetes and people at risk for type 2 diabetes where they live, work, play, and worship.

The NDEP evaluation will document the extent to which the NDEP program has been implemented and how successful it has been in meeting program objectives. The evaluation relies heavily on data gathered from existing national surveys such as National Health and Nutrition Examination Survey (NHANES), the National Health Interview Survey (NHIS), the Behavioral Risk Factor Surveillance System (BRFSS), among others for this information. This is a continued collection of additional primary data from NDEP target audiences on some key process and impact measures that are necessary to effectively evaluate the program. The audiences targeted by the National Diabetes Education Program include people at risk for diabetes, people with diabetes and their families, and the public.

OMB approval is requested for three years. There are no costs to respondents other than their time. The total estimated annualized burden hours are 841.

Estimated Annualized Burden Hours
Type of respondent and instrument | Estimated number of respondents | Estimated number of responses per respondent | Average time per response (in hours) | Estimated total annual burden hours
Adults—Pretest surveys | 25 | 1 | 20/60 | 8
Adults—Surveys | 2500 | 1 | 20/60 | 833

Dated: March 12, 2014.
Ruby N. Akomeah,
Project Clearance Liaison, NIDDK, NIH.

[FR Doc. 2014-06064 Filed 3-18-14; 8:45 am]

BILLING CODE 4140-01-P